CORPORATION FOR NATIONAL AND COMMUNITY SERVICE

Funding Opportunity for AmeriCorps*VISTA Financial Asset Development Projects, Placements of AmeriCorps*VISTA Members, and Supervisory Grants

AGENCY: Corporation for National and Community Service.

ACTION: Notice of funding opportunity.

SUMMARY: Subject to the availability of appropriations, AmeriCorps*VISTA (Volunteers In Service To America), a program of the Corporation for National and Community Service, is seeking applications to sponsor AmeriCorps*VISTA projects to build financial assets for low-income individuals and communities. This includes three types of program activity: (1) Building individual assets (individual development accounts, micro-enterprise development, entrepreneur education, financial literacy, home ownership, etc.), (2) building organizational assets (helping nonprofit organizations to achieve long term financial security through their purchasing of real estate, developing diversified income streams, creating efficiencies through the application of technology, etc.), and (3) building community assets (developing new credit unions, establishing cooperatives, creating business opportunities, etc.). Applicants will sponsor a project of three (3) or more AmeriCorps*VISTA members. Projects under this announcement may be national, regional, state, or local in scope. The sponsor will participate in recruiting and training the members and will provide supervision and project support. State and/or local public agencies, and nonprofit private organizations including faith-based organizations that are local, statewide, regional, or national in scope are eligible to apply under this announcement. Applicants should be organizations that are currently developing financial assets in low-income communities or are supporting social venture capital activities. Applicants must demonstrate that they have the capacity to support and supervise AmeriCorps*VISTA members.

It is anticipated that proposed projects will create new capacity in the sponsoring organization (or nonprofit organizations targeted by venture philanthropists) to develop financial assets in communities with demonstrated needs. Sponsors should be self-sustaining following a specified period of AmeriCorps*VISTA support, usually three (3) years.

AmeriCorps*VISTA intends to enter into Memoranda of Agreement with organizations selected under this announcement.

A total of up to 400 AmeriCorps*VISTA members with an established Corporation allocation of approximately $1,420,000 may be allocated for placement. Applicant organizations will be expected to place no less than three (3) AmeriCorps*VISTA members per site. Under this announcement, small supervision grants for all sponsors selected for a supervisory grant of up to approximately $200,000 total, will be considered based on the size and scope of the project. Short-term, eight-to-ten week summer placements may also be requested under this announcement.

While sharing the cost of a cadre of members is not a requirement, the contribution of resources by applicants to support the AmeriCorps*VISTA members will be considered in the rating of applications. For example, applicants are encouraged to collaborate with financial institutions and other businesses to provide mentoring, training, and additional resources to AmeriCorps*VISTA members. Applicant organizations are encouraged to create partnerships with colleges and universities to provide academic credit for AmeriCorps*VISTA service and service-related technical training, without compromising the full immersion experience of AmeriCorps*VISTA. Additional consideration also will be made to organizations that provide housing for members.

DATES: All applications must arrive at the Corporation no later than 5:00 p.m., Eastern Standard Time, January 28, 2002. Applications submitted via overnight mail that arrive after the closing date will be accepted if they are postmarked at least two days prior to the closing date. Otherwise, late applications will not be accepted. The Corporation anticipates announcing its selections under this announcement in early March. Projects awarded under this announcement should be prepared to (1) attend supervisors training in April 2002 and (2) recruit AmeriCorps*VISTA members for the July 2002 Pre-Service Orientation.

ADDRESSES: One (1) signed original and three (3) copies of the application must be submitted to the Corporation for National and Community Service, AmeriCorps*VISTA, 1201 New York Avenue, NW., Attn: David Gurr, Washington, DC 20525. The Corporation will not accept applications that are submitted via facsimile or e-mail transmission.

FOR FURTHER INFORMATION CONTACT: For further information on how to apply under this announcement, go to www.americorps.org/vista/sponsorinfo.html, call (202) 606-5000, ext. 204, or e-mail vista@americorps.org. Background information, including project applications, are available from the Corporation for National and Community Service, AmeriCorps*VISTA, 1201 New York Ave., NW., Washington, DC 20525, (202) 606-5000, ext. 134; TTY (202) 565-2799, or TTY via the Federal Information Relay Service at (800) 877-8339.

SUPPLEMENTARY INFORMATION:

A. Background

The Corporation is a federal government corporation that encourages Americans of all ages and backgrounds to engage in community-based service. This service addresses the nation's educational, public safety, environmental, and other human needs to achieve direct and demonstrable results. In addressing those needs, we strive to foster civic responsibility, strengthen the ties that bind us together as Americans, and provide educational opportunities for those who make a substantial commitment to service. We support a range of national service programs, including AmeriCorps, Learn and Serve America, and the National Senior Service Corps.

AmeriCorps*VISTA, a component of AmeriCorps, is authorized under the Domestic Volunteer Service Act of 1973, as amended (Pub. L. 93-113). The statutory mandate of AmeriCorps*VISTA is “to strengthen and supplement efforts to eliminate and alleviate poverty and poverty-related problems in the United States by encouraging and enabling persons from all walks of life, all geographical areas, and all age groups . . . (to) assist in the solution of poverty and poverty-related problems, and . . . to generate the commitment of private sector resources, to encourage volunteer service at the local level, and to strengthen local agencies and organizations to carry out the purpose (of the program).” (42 U.S.C. 4951) AmeriCorps*VISTA carries out its legislative mandate by assigning individuals 18 years and older, on a full-time, year-long basis, to public and private nonprofit organizations whose goals are in accord with AmeriCorps*VISTA's legislative mission. Each AmeriCorps*VISTA project must focus on the mobilization of community resources, the transference of skills to community residents, and the expansion of the capacity of community-based organizations to solve local problems. Programming should encourage permanent, long-term solutions to problems confronting low-income communities rather than short-term approaches for handling emergency needs.

AmeriCorps*VISTA project sponsors must actively elicit the support and/or participation of local public and private sector elements in order to enhance the chances of a project's success as well as to make the activities undertaken by AmeriCorps*VISTA members self-sustaining when the Corporation no longer provides resources.

B. Purpose of This Announcement

The purpose of this announcement is to support the use of financial/business strategies to fight poverty by building financial assets for individuals, organizations, and communities. Financial asset development is an important strategy designed to move people out of poverty. It provides people with the financial security to escape poverty for the long term by purchasing a car or home, furthering their education, or starting a business. For community organizations, it can provide the means to achieve long-term stability by adopting recognized business practices, diversifying revenue streams, and applying technology.

Financial assets for individuals include individual development accounts (IDAs), home ownership, small business start-up, financial/entrepreneurial education, or other equity-building strategies. Increased equity offers financial stability for individuals moving out of poverty, provides opportunities for investment in education, diversifies income streams, and enables low-income individuals to escape poverty.

Likewise, many struggling nonprofit organizations can benefit from organizational financial asset development. Some examples of organizational financial asset development include diversifying income sources (including for-profit enterprises within nonprofit structures), purchasing real estate, and increasing efficiencies through the application of technology.

For many low-income communities with little economic development and few service providers, there are few opportunities to use new skills or to build asset values in property. With limited small business development and single, large employers, the community becomes over-dependent on one source of jobs and can be devastated by small changes in the economy or choices to move production elsewhere. Community asset development strategies to overcome these structural problems include developing credit unions, cooperatives, and small business opportunities for low-income entrepreneurs. Each of these institutions can enable low-income, asset-poor communities to become self-sufficient and not dependent on single financial, employment, or consumer institutions. The designation of enterprise zones is an excellent example of targeting resources to specific communities in order to build community assets.

C. Eligible Applicants

State and/or local public agencies, and nonprofit private organizations that are local, statewide, regional, or national in scope are eligible to apply under this announcement. Organizational and community financial asset development efforts are frequently supported through social venture capital institutions that are committed to investment in antipoverty enterprises with a view toward long-term return. These types of philanthropic entities, if public or non-profit private organizations, are encouraged to apply.

Pursuant to the Lobbying Disclosure Act of 1995, an organization described in section 501(c)(4) of the Internal Revenue Code of 1986, 26 U.S.C. 501(c)(4), which engages in lobbying, is not eligible to apply.

D. Scope of Project

AmeriCorps*VISTA projects traditionally work with local community-based organizations and it is anticipated that all projects under this announcement will have at least three (3) AmeriCorps*VISTA members. If a project is national in scope, it is anticipated that each project will support between 25 and 50 AmeriCorps*VISTA members on a full-time basis for one year of service and that each local project affiliated with the national project will support at least three (3) members.

Applicants are encouraged to request AmeriCorps*VISTA Leaders for projects of eight (8) or more members. Leaders are former AmeriCorps*VISTA members who have completed a year of service in the AmeriCorps*VISTA program or have completed two years of service with the Peace Corps. They are charged with coordinating member activities across the project and assisting in recruitment and training activities.

Some applicants may want to apply for the Summer Associate program as part of their application. Summer Associates serve for 8-10 weeks on a full-time basis to bring an additional infusion of energy and expertise to achieving the projects' goals. Summer Associates receive the same living allowance (pro-rated for their length of service) and a partial education award, but are not eligible for relocation funds or national training. For example, applicants may consider incorporating into the proposal the placement of MBA students or business major undergraduates as a Summer Associate component to their project. An organization cannot propose a Summer Associates program without also proposing a full-year AmeriCorps*VISTA project.

Quality supervision of AmeriCorps*VISTA projects are critical for their success. At a minimum, there should be one full-time supervisor dedicated exclusively to the project for every 20 AmeriCorps*VISTA members and the equivalent prorated level for projects with fewer members. Supervision grants, if requested, are restricted to supporting a portion of the salary package of a person employed to directly supervise AmeriCorps*VISTA projects and for travel by staff listed under Project Personnel in the budget. No supervision grant can be less than $20,000 and typically does not exceed $1,000 per AmeriCorps*VISTA member requested.

Project applicants, particularly those applying for supervision grants, should demonstrate their commitment to matching the federal contribution toward the operation of the AmeriCorps*VISTA project by offsetting all, or part of, the costs of member supervision, transportation, on-site orientation and training, as well as the basic costs of the program itself (e.g., space, telephone, etc.). This support can be achieved through cash or in-kind contributions, and it must be documented in the budget.

Further, applicant organizations are encouraged to share in costs traditionally covered by federal funds. In a cost-share arrangement, sponsoring organizations cover the living allowance (approximately $9,400 per member) for a specified number of AmeriCorps*VISTA positions. The Corporation will pay for training, relocation allowances, education awards, health care, and other expenses relating to the members' service.

Applications must demonstrate a multi-year development plan including work plans for individual members, broken down by quarter. Projects may be awarded for a three or five year project period and approved on a twelve-month cycle. The Corporation has no obligation to provide additional funding or AmeriCorps*VISTA placements for subsequent years. Continuation of a project, and possible funding of a supervisory grant, for approved projects is contingent upon the availability of funds, satisfactory progress in relation to the approved objectives, submission of proposed changes in activities or objectives, a detailed budget and budget narrative for the applicable program year, and other criteria established in the Memorandum of Agreement and grant award agreement. AmeriCorps*VISTA projects are usually expected to achieve capacity-building goals at a given site within three (3) years, or five (5) years if there is significant cost-share participation. Typically, these project time lines are broken down into quarterly benchmarks to ensure the achievement of work plan objectives. Applicants under this announcement should describe a clear time frame for the project to achieve new capacity, identify regular objectives and/or outcomes for intermediate achievements, and describe the proposed transition at the conclusion of the project time line. Satisfactory performance ratings during annual reviews will be based on meeting the time lines proposed in the application.

Publication of this announcement does not obligate the Corporation to award any specific number of grants, or to obligate the entire amount of funds or members available, or any part thereof, for grants under the AmeriCorps*VISTA program, or to approve any specific number of non-grant projects for the placement of AmeriCorps*VISTA members.

The Corporation will provide technical assistance to applicants under this announcement to complete project applications, including detailed budgets.

E. Responsibilities of Sponsoring Organization

Applicant organizations must demonstrate: the existing capacity and experience needed to monitor and support a project; previously demonstrated strong institutional commitment of personnel, resources, training, and technical expertise; and a well-coordinated project rather than loosely tying together several unrelated activities.

The Corporation State Offices will work with those governmental agencies and organizations selected as project sites to finalize Part B (CNS Form 1421B) (OMB Control Number 3045-0038) of the project application, assist in recruiting and training members to serve as AmeriCorps*VISTA members, and discuss various implementation issues including in-service training and technical assistance for members. The Corporation State Office also provides training to AmeriCorps*VISTA supervisors. The sponsoring organization is required to submit a Project Progress Report (CNS Form 1433) (OMB Control Number 3045-0043) to the Corporation State Office on a federal fiscal year quarterly basis.

F. Submission Requirements

1. A one-page narrative summary description, single-spaced, single-sided, of the proposed AmeriCorps*VISTA project including the name, address, telephone number, and contact person for the applicant organization. The summary should include the expected long-term antipoverty outcomes of the project, a description of what will be created that did not exist before the project started, and a description of how the project will be sustained once AmeriCorps*VISTA resources are withdrawn. The summary will be used as a project abstract to provide reviewers with an introduction to the substantive parts of the application. Therefore, care should be taken to produce a summary that accurately and concisely reflects the proposal.

2. Application for Federal Assistance (SF 424) (OMB Approval Number 0348-0043), including the Part II Budget. This is a standard form used by applicants as a required face sheet for applications requesting federal assistance. It includes attachments requiring signatures to ensure that applicants comply with all other relevant federal laws, rules and regulations, and certifications that: (a) The applicant has not been debarred from receiving federal assistance, (b) that it has a drug-free work plan, and (c) that it will comply with federal requirements governing lobbying activities.

3. Part A (CNS Form 1421A) (OMB Control Number 3045-0039) containing a description of the organization's mission, population to be served, experience in the areas of service, and specific problems of poverty to be addressed. In addition, the applicant must state:

• The specific needs of the low-income community or communities that will be served by the project, particular challenges facing that community, the scarcity of similar programs providing financial asset development opportunities, and recent demographic or socioeconomic changes that have increased challenges to the low-income community or communities.

• The specific strategy that will be used to achieve the financial asset development goals and how the success of that strategy will be measured.

• The long-term impacts that the new strategy, once institutionalized, will have on helping people out of poverty.

• The elements necessary for that strategy to be sustainable after AmeriCorps*VISTA resources are withdrawn.

• The activities that members undertake in each of the three years to achieve institutionalization of the strategy.

• The applicant's experience in coordinating the efforts of community volunteers and/or service participants.

• The resources that exist to support the project, including the organizations that will serve as collaborators, the amount of cost-share investment the applicant can make, the additional resources dedicated to training members, and whether housing will be provided.

4. Part B (CNS Form 1421B) (OMB Control Number 3045-0038) which includes a measurable and quantifiable description of the specific problem(s) the AmeriCorps*VISTA project will address, current activities to address the problem, and how AmeriCorps*VISTA members will complement this effort. This section needs to address site specific information and include the following:

• A detailed work plan must be completed for the first year of the project; it should contain objectives that are measurable, quantifiable, and time-phased according to specific milestones established by the applicant. A more general work plan must be submitted for each of the subsequent years. While there is no standard project length, the AmeriCorps*VISTA resource is a time-limited form of assistance and the application should provide a timetable necessary to complete the project. An evolution of AmeriCorps*VISTA member work plans from the first year of the project to the last should clearly show how the project will reach maturity and then phase out in a way that leads to sustained support from the sponsor and its community partners.

• A list of the tasks and activities of the AmeriCorps*VISTA member assignments, required skills and qualifications of members, and factors to be considered in assigning members with disabilities.

• A description of the applicant's strategy for recruiting qualified AmeriCorps*VISTA members, including a sample position description for the online AmeriCorps recruitment system for each type of member desired.

• A description of how members will be supervised.

• A description of how project beneficiaries will be involved in the planning of the project (including its development and implementation), what resources will be provided by the community for a successful project, and how the community will be involved in assuring project sustainability.

• An overview of the content of an on-site orientation and training (typically one to three weeks) that the applicant will provide to enable members to quickly understand their assignment and the community in which they are serving.

• A description of on-going training and technical assistance the applicant will provide to their AmeriCorps*VISTA members.

• Plans for publicizing the project, recognizing member accomplishments, and generating community support in sustaining the project.

5. Documentation in the form of letters of support from collaborating organizations and/or individuals stating what will be provided by them in the overall project effort.

6. Copy of Articles of Incorporation (not applicable to public governmental entities).

7. List of Board of Directors or governing body (not applicable to public governmental entities).

8. Organizational chart illustrating the location of the AmeriCorps*VISTA project within the overall applicant organization.

9. List of Advisory Council Members if already selected.

10. Tax exempt status: either IRS determination or copy of application to IRS for exemption (not applicable to public governmental entities).

11. Copy of supervisor's resume and job description.

12. Copy of most recent financial audit if available.

13. A list of potential local project sponsors including all necessary contact information.

G. Criteria for Project Selection

All of the following elements will be used in judging the applications:

I. Program Design

a. Getting Things Done

The proposed project must:

1. Describe the community or communities that will be served and explain why they are of particular need at this time. The explanation may include comparable poverty rates, recent demographic changes, or data indicating a concerning shift, lack of financial asset development programs (for individual asset development projects) or nonprofit management services available (for organizational projects), etc.

2. Address the needs of low-income communities and otherwise comply with the provisions of the Domestic Volunteer Service Act of 1973, as amended (42 U.S.C. 4951 et seq.) applicable to AmeriCorps*VISTA and all applicable published regulations, guidelines, and Corporation policies.

3. Contain clear and measurable objectives/outcomes in the project application during the proposed timeline for the project (with quarterly benchmarks) that address the overall objectives of the initiative. Applicants must show how the new capacity the AmeriCorps*VISTA members will build will contribute to specific outcomes related to increased opportunity for low-income people. It is expected that outcome objectives will reflect the evolution of the project.

4. Indicate how the proposed project complements and/or enhances activities already underway in the communities that will be served by the project. To the extent possible, applicant organizations should seek out opportunities to collaborate with other Corporation programs, as well as with other community partners, including universities and colleges, the business sector, and foundations.

5. Describe how the number of AmeriCorps*VISTA members requested is appropriate for the project goals/objectives, and how the skills requested are appropriate for the assignment(s).

b. Strengthening Communities

The applicant organization must:

1. Describe how the financial asset development strategy described will help provide a clear step on the road to allowing people to leave poverty for the long-term.

2. Describe how the project will develop a new and sustainable capacity in the local community to effectively support the long-term financial asset strategies.

3. Demonstrate collaboration with organizations that provide supportive services to enhance project outcomes.

4. Explain how the project will be designed to generate public and/or private sector resources, and to promote local, part-time volunteer service at the community level.

5. Describe in measurable terms the anticipated outcomes at the conclusion of the project, including outcomes related to the sustainability of the project activities and the project's impact on poverty.

c. Member Development

The applicant organization must:

1. Clearly state how AmeriCorps*VISTA members will be trained, supervised, and supported to ensure the achievement of project goals and objectives as stated in the project work plan.

2. Describe any additional benefits that will be provided members in order to make the assignment more attractive or offer value to the member when he or she has completed service. Additional consideration will be given to proposals that include partnering with universities and colleges for academic credit, collaboration with financial institutions and other businesses, and for housing the members. An AmeriCorps*VISTA member may take, at any given time, no more than one educational course that must be directly related to the member's project assignment and/or be part of a member's career plan. Advance permission of the project supervisor and the Corporation State Program Director is required to take these courses.

3. Describe how AmeriCorps*VISTA assignments are designed to use the full-time AmeriCorps*VISTA members' time to the maximum extent.

II. Organizational Capacity

The applicant organization must:

1. Ensure that resources needed to achieve project goals and objectives are available.

2. Have the management and technical capability to implement the project successfully.

3. Have demonstrated experience in addressing the issues proposed by the project application.

4. Have systems for evaluating and monitoring project activities. Applicants must describe the methods that will be used to track progress toward the stated objectives, and the procedures that will provide the feedback needed to make adjustments that improve project quality.

5. Invest its own resources in the administration, management, and supervision of members.

6. Consider cost-sharing AmeriCorps*VISTA members and if they are unable to do so, including future plans for possibly supporting cost-shared slots.

7. Explore partnering with higher education institutions and the business community in order to support this antipoverty initiative.

III. Budget/Cost-Effectiveness

The applicant organization must:

1. Include a budget that adequately supports the project design.

2. Include a budget that adheres to budget guidance provided with the application.

3. Describe how the applicant organization is committing resources necessary for project implementation.

H. Application Review

Proposal Evaluation

To ensure fairness to all applicants, the Corporation reserves the right to take action, up to and including disqualification, in the event that an application fails to comply with any requirements specified in this Notice.

The following weights will be used in judging the elements described above.

1. Program Design (60%) in the following order of importance:

a. Responsiveness to Strengthening Communities Criteria (25%)

b. Responsiveness to Getting Things Done Criteria (15%)

c. Responsiveness to Member Development Criteria (10%)

2. Organizational Capacity including demonstrated capacity in addressing proposed issues (25%).

3. Budget/Cost-Effectiveness (15%).

I. Geographic Diversity

After evaluating the overall quality of the proposal and its responsiveness to the criteria noted above, the Corporation will take into consideration whether funded projects are in areas of high concentration of low-income residents, including for example those in empowerment zones and enterprise communities, and rural champion communities.

J. Program Authority

Corporation authority to make these grants and approve projects is authorized under Title I, Part A of the Domestic Volunteer Service Act of 1973, as amended (Pub. L. 93-113).

Dated: December 10, 2001.
Robert L. Bush,
Acting Director, AmeriCorps*VISTA, Corporation for National and Community Service.

[FR Doc. 01-30843 Filed 12-13-01; 8:45 am]

BILLING CODE 6050-$$-P